FEDERAL COMMUNICATIONS COMMISSION

Information Collection Being Reviewed by the Federal Communications Commission for Extension Under Delegated Authority

AGENCY: Federal Communications Commission.

ACTION: Notice; request for comments.

SUMMARY: As part of its continuing effort to reduce paperwork burdens and as required by the Paperwork Reduction Act of 1995, Public Law 104-13, the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Persons wishing to comment on this information collection should submit comments April 15, 2013. If you anticipate that you will be submitting comments, but find it difficult to do so within the period of time allowed by this notice, you should advise the contact listed below as soon as possible.

ADDRESSES: Submit your PRA comments to Nicolas A. Fraser, Office of Management and Budget (OMB), via fax at 202-395-5167, or via the Internet at Nicholas_A._Fraser@omb.eop.gov, and to Judith-B.Herman@fcc.gov, Federal Communications Commission (FCC). To submit your comments by email send them to: PRA@fcc.gov.

FOR FURTHER INFORMATION CONTACT: For additional information about the information collection(s), contact Judith B. Herman at 202-418-0214.

SUPPLEMENTARY INFORMATION:

OMB Control Number: 3060-1129.

Title: Broadband Speed Test and Unavailability Registry.

Form Number: N/A.

Type of Review: Extension of a currently approved collection.

Respondents: Individuals and households.

Number of Respondents: 7,300 respondents; 7,300 responses.

Estimated Time per Response: .017 hours.

Frequency of Response: On occasion reporting requirement, and third party disclosure requirement.

Obligation to Respond: Required to obtain or retain benefits. Statutory authority for this information collection is contained in Public Law 111-5, American Reinvestment and Recovery Act of 2009; Public Law 110-385, Broadband Data Improvement Act of 2008, 47 U.S.C. 103(c)(1).

Total Annual Burden: 124 hours.

Total Annual Cost: N/A.

Privacy Impact Assessment: Yes. The Commission will retain the street and IP address information obtained from participants in the speed test. The Commission will not release individual personally identifiable information (PII) to the public. As noted in the supporting statement, page 2, the FCC is committed to protecting the PII that is being collected, stored, maintained, and used as part of the Broadband Plan and the Broadband Map and the related impact studies and filing processes.

Nature and Extent of Confidentiality: The Commission is not requesting that respondents submit confidential information to the Commission. If the Commission requests that respondents submit information which respondents believe is confidential, respondents may request confidential treatment of such information pursuant to section 0.459 of the Commission's rules, 47 CFR 0.459. The FCC has a system of records, FCC/OSP-1, “Broadband Dead Zone Report and Consumer Broadband Test,” to cover the collection, purpose(s), storage, safeguards, and disposal of the personally identifiable information (PII) that individuals may submit to enable these US residents to voluntarily report the unavailability of broadband service at the household street address level and to test the speed and quality of their broadband service and to provide the Commission with unique data on household availability of broadband and on relative broadband speeds.

Needs and Uses: The Commission will submit this expiring information collection to the Office of Management and Budget (OMB) after this comment period to obtain the full, three year clearance from them. The Commission is seeking an extension for these requirements. There is no change in the Commission's previous burden estimates.

The Broadband Data Improvement Act of 2008, Public Law 110-385, Stat 4096, section 103(c)(1) directs the Commission to collect information on the types of technology used to provide broadband to large businesses and small businesses, the price of such services, actual data transmission speeds and the reasons for non-adoption of broadband service. Additionally, the FCC in the 2008 Broadband Data Gather Order (23 FCC Rcd at 9699, para. 18, 73 FR 37869, 73 FR 37911), instructs the Commission to “design and implement a voluntary system that households may use to report availability and speed of broadband Internet access service at their premises.”

The purpose of this collection is to enable residents of the United States to voluntarily report the unavailability of broadband service at the household street address level and to test the speed and quality of their broadband service. This collection will provide the Commission with unique data on household availability of broadband and on relative broadband speeds.

OMB Control Number: 3060-1042.

Title: Request for Technical Support—Help Request Form.

Form Number: N/A—electronic only.

Type of Review: Extension of a currently approved collection.

Respondents: Individuals and households, business or other for-profit, not-for-profit institutions, and state, local or tribal government.

Number of Respondents: 36,300 respondents; 36,300 responses.

Estimated Time per Response: 8 minutes.

Frequency of Response: On occasion reporting requirement and recordkeeping requirement.

Obligation to Respond: Voluntary. There is no statutory authority for this information collection.

Total Annual Burden: 4,480 hours.

Total Annual Cost: $387,200.

Privacy Impact Assessment: Yes. Records may include information about individuals or households, and the use(s) and disclosure of this information is governed by the requirements of a system of records, FCC/WTB-7, “Remedy Action Request System” (RARS). There are no additional impacts under the Privacy Act.

Nature and Extent of Confidentiality: Submission of the form is voluntary. Individuals may decline to provide the information requested in the on-line form; however, support will not be funnled via electronic means into the Commission. The customer will have to call the Commission to request support in lieu of submitting an electronic submission.

Needs and Uses: The Commission will submit this expiring information collection to the Office of Management and Budget (OMB) after this comment period to obtain the full, three year clearance from them. The Commission is seeking an extension for these requirements. There is no change in the Commission's previous burden estimates.

The FCC maintains Internet software used by the public to apply for licenses, participate in auctions for spectrum, and maintain license information. In this mission, FCC has a “help desk” that answers questions related to these systems as well as requesting and/or issuing user passwords for access to these systems. The form currently is available on the Commission's Web site https://esupport.fcc.gov/request.htm under OMB control number 3060-1042. This form will continue to substantially decrease public and staff burden since all the information needed to facilitate a support request will be submitted in a standard format but be available to a wider audience. This eliminates or at least minimizes the need to follow-up with the customers to obtain all the information necessary to respond to their request. This form also helps presort requests into previously defined categories to all staff to respond more quickly.

Federal Communications Commission.
Marlene H. Dortch,
Secretary.

[FR Doc. 2013-03228 Filed 2-11-13; 8:45 am]

BILLING CODE 6712-01-P